DEPARTMENT OF LABOR

Employment and Training Administration

[TA-W-59,951]

Northern Hardwoods, a Division of Hardwood Lumber Manufacturing, South Range, MI; Notice of Termination of Investigation

Pursuant to Section 221 of the Trade Act of 1974, as amended, an investigation was initiated on August 24, 2006 in response to a petition filed by a state official on behalf of workers of Northern Hardwoods, a division of Hardwood Lumber Manufacturing, South Ridge, Michigan.

The petitioning worker is covered by a previously certified petition (TA-W-57,091) that does not expire until June 8, 2007. All workers at the South Range, Michigan location are covered under the previous certification. Consequently, the investigation under this petition has been terminated.

Signed at Washington, DC this 25th day of August 2006.
Richard Church,
Certifying Officer, Division of Trade Adjustment Assistance.

[FR Doc. E6-15746 Filed 9-25-06; 8:45 am]

BILLING CODE 4510-30-P